DEPARTMENT OF COMMERCE

International Trade Administration

(C-475-817)

Oil Country Tubular Goods from Italy: Extension of Time Limit for Final Results of Expedited Five-year (Sunset) Review of Countervailing Duty Order

AGENCY: Import Administration, International Trade Administration, Department of Commerce.

EFFECTIVE DATE: October 2, 2006.

SUMMARY: The Department of Commerce (“the Department”) is extending the time limit for its final results in the expedited sunset review of the countervailing duty (CVD) order on oil country tubular goods (OCTG) from Italy. As a result of this extension, the Department intends to issue the final results of the sunset review no later than December 19, 2005.

FOR FURTHER INFORMATION CONTACT: Jun Jack Zhao or Sean Carey, AD/CVD Operations, Office 6, Import Administration, International Trade Administration, U.S. Department of Commerce, 14th Street & Constitution Avenue, NW., Washington, DC 20230; telephone: (202) 482-1396 or (202) 482-3964, respectively.

SUPPLEMENTARY INFORMATION:

Extension of Final Results:

On June 1, 2006, the Department of Commerce (the Department) published, in the Federal Register, the notice of initiation of the second five-year sunset review of the countervailing duty order on OCTG from Italy, pursuant to section 751(c) of the Tariff Act of 1930, as amended (the Act). See Initiation of Five-year (“Sunset”) Reviews, 71 FR 31153 (June 1, 2006). On July 21, 2006, the Department determined that the substantive responses filed by the Government of Italy (GOI), the European Union/Delegation of the European Commission (EU) and Dalmine S.p.A. (Dalmine) were inadequate and that this sunset review would be conducted on an expedited basis. See July 21, 2006 memo from the sunset team to Stephen J. Claeys, through Barbara E. Tillman, Adequacy Determination: Sunset Review of the Countervailing Duty Order on Oil Country Tubular Goods from Italy (Second Review). This memorandum is on file in the Central Records Unit, room B-099 of the main Commerce building. The Department's final results of this review were scheduled for September 29, 2006; however, the Department needs additional time to make its final determination.

In accordance with section 751(c)(5)(B) of the Act, the Department may extend the period of time for making its final determination in a sunset review by not more than 90 days, if it determines that the review is extraordinarily complicated. The Department needs additional time to consider issues related to whether a countervailable subsidy is likely to continue or recur if the order is revoked. Specifically, the Department has determined that it is necessary to verify certain of the information provided by respondents in this review. Therefore, the Department will extend the deadline in this proceeding, and, as a result, intends to issue the final results of the sunset review of the countervailing duty order on OCTG from Italy, no later than December 19, 2006, an additional 81 days from the date of initiation of this review.

This notice is issued and published in accordance with sections 751(c)(5)(B) and (C) of the Act.

Dated: September 26, 2006.
Stephen J. Claeys,
Deputy Assistant Secretary for Import Administration.

[FR Doc. E6-16232 Filed 9-29-06; 8:45 am]

BILLING CODE 3510-DS-S